DEPARTMENT OF COMMERCE

National Oceanic and Atmospheric Administration

RIN 0648-XA561

New England Fishery Management Council; Public Meeting

AGENCY: National Marine Fisheries Service (NMFS), National Oceanic and Atmospheric Administration (NOAA), Commerce.

ACTION: Notice; public meeting.

SUMMARY: The New England Fishery Management Council (Council) Research Steering Committee (Committee) will hold a webinar.

DATES: The meeting will be held on Tuesday, August 2, 2011, at 3 p.m.

ADDRESSES:

Meeting address: The webinar will be held at the New England Fishery Management Council, 50 Water Street, Mill 2, Newburyport, MA 01950; telephone: (978) 465-0492; fax: (978) 465-3116.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of the meeting is to respond to NMFS' request for additional information regarding adoption of the new eliminator trawl. The RSC will answer the following questions in the form of a recommendation to be reviewed by the Council's Executive Committee at its August 9th meeting:

1. Is the Council's intent that the gear be available to both sector and non-sector vessels for use in the Haddock SAP and as a specified gear for the purpose of discard estimation? 2. Does the committee feel there is sufficient information to warrant treating the new eliminator trawl the same as the Ruhle trawl for the purpose of discard estimation, or does it recommend creating a new gear code due to potential for catch performance differences? 3. How does the committee evaluate the gear with respect to the Haddock SAP and Regular B-day program gear performance standards in the regulations?

The research report on the gear in question is available at http://www.nefmc.org under Research Steering Committee meeting materials for the April 14th meeting. The public may obtain information about accessing the webinar by visiting the New England Council's Web site at http://www.nefmc.org.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: July 8, 2011.
Tracey L. Thompson,
Acting Director, Office of Sustainable Fisheries, National Marine Fisheries Service.

[FR Doc. 2011-17569 Filed 7-12-11; 8:45 am]

BILLING CODE 3510-22-P